DEPARTMENT OF EDUCATION

National Advisory Committee on Institutional Quality and Integrity (NACIQI) Meeting

AGENCY: National Advisory Committee on Institutional Quality and Integrity, Office of Postsecondary Education, Department of Education.

ACTION: Notice of Amended Agenda and Procedures for Making Oral Comments at December 14-16, 2011 Open Meeting of the National Advisory Committee on Institutional Quality and Integrity (NACIQI).

ADDRESS: U.S. Department of Education, Office of Postsecondary Education, 1990 K Street NW., Room 8060, Washington, DC 20006.

SUMMARY: This notice sets forth changes to the December 14-16, 2011 NACIQI meeting agenda that was published in the August 17, 2011, Federal Register (76 FR 159); a complete listing of the agenda items for the December 14-16, 2011 NACIQI meeting, as revised; and information related to members of the public making oral comments at the meeting. The notice of this meeting is required under Section 10(a)(2) of the Federal Advisory Committee Act (FACA) and Section 114(d)(1)(B) of the Higher Education Act (HEA).

Meeting Date and Place: The NACIQI meeting will be held on December 14-16, 2011, from 8:30 a.m. to approximately 5:30 p.m., Eastern Standard Time, except for December 16, 2011, when it is anticipated that the meeting will end mid-afternoon, at the Crowne Plaza Old Town Alexandria, Washington Ballroom, 901 North Fairfax, Alexandria, Virginia.

Changes to Agenda: Since the publication of the August 17, 2011 Federal Register notice, the Department has added an item to the agenda: The review of an informational report on initial accrediting decisions since October 2010 by the Higher Learning Commission of the North Central Association of Colleges and Schools as required by the corrective actions report issued by the Department's Office of Postsecondary Education on May 6, 2010. The NACIQI will not be making a recommendation to the Senior Department Official concerning the informational report from the Higher Learning Commission of the North Central Association of Colleges and Schools. Also, the Mississippi Institutes of Higher Learning Board of Trustees of State Institutions of Higher Education has been removed from the December meeting agenda.

Meeting Agenda: Below is a list of agencies and the current and requested scopes of recognition scheduled for review during the December 14-16, 2011 NACIQI meeting.

Petitions for Renewal of Recognition

Accrediting Agencies

1. American Podiatric Medical Association, Council on Podiatric Medical Education. (Current Scope: the accreditation and preaccreditation [“Candidate Status”] throughout the United States of freestanding colleges of podiatric medicine and programs of podiatric medicine, including first professional programs leading to the degree of Doctor of Podiatric Medicine).

2. The Council on Chiropractic Education, Commission on Accreditation. (Current Scope: The accreditation of programs leading to the Doctor of Chiropractic degree and single-purpose institutions offering the Doctor of Chiropractic program).

3. Commission on English Language Program Accreditation. (Current Scope: The accreditation of postsecondary, non-degree-granting English language programs and institutions in the United States).

4. Joint Review Committee on Education in Radiologic Technology. (Current Scope: The accreditation of education programs in radiography, magnetic resonance, radiation therapy, and medical dosimetry, including those offered via distance education, at the certificate, associate, and baccalaureate levels).

5. North Central Association Commission on Accreditation and School Improvement, Board of Trustees. (Current Scope: The accreditation and preaccreditation [“Candidacy Status”] of schools offering non-degree, postsecondary education in Arizona, Arkansas, Colorado, Illinois, Indiana, Iowa, Kansas, Michigan, Minnesota, Missouri, Nebraska, New Mexico, North Dakota, Ohio, Oklahoma, South Dakota, West Virginia, Wisconsin, Wyoming, and in the Navajo Nation).

State Approval Agencies for Nursing Education

1. Kansas State Board of Nursing. (Current Scope: A State agency for the approval of nurse education).

2. Maryland State Board of Nursing. (Current Scope: A State agency for the approval of nurse education).

3. New York State Board of Regents, State Education Department, Office of the Professions (Nursing Education). (Current Scope: A State agency for the approval of nurse education).

State Approval Agencies for Postsecondary Education Vocational Education

1. New York State Board of Regents, State Education Department, Office of the Professions (Public Postsecondary Vocational Education, Practical Nursing). (Current Scope: State agency for the approval of public postsecondary vocational education in the field of practical nursing offered by the Board of Cooperative Educational Services, the Educational Opportunity Centers, and the New York City Board of Education to prepare persons for licensed practical nursing careers in the State of New York).

2. Pennsylvania State Board for Vocational Education, Bureau of Career and Technology Education. (Current Scope: State agency for the approval of public postsecondary vocational education).

Petitions for Renewal of Recognition and Expansion of Scope to Include Distance Education

Accrediting Agency

1. American Association for Marriage and Family Therapy, Commission on Accreditation for Marriage and Family Therapy Education. (Current Scope: the accreditation and preaccreditation [“Candidacy”] throughout the United States of clinical training programs in marriage and family therapy at the master's, doctoral, and postgraduate levels. Requested Scope: The accreditation throughout the United States of clinical training programs in marriage and family therapy at the master's, doctoral, and postgraduate levels, including programs offering distance education.)

State Approval Agency for Postsecondary Education Vocational Education

1. Oklahoma Board of Career and Technology Education. (Current Scope: State agency for the approval of public postsecondary vocational education offered at institutions in the State of Oklahoma that are not under the jurisdiction of the Oklahoma State Regents for Higher Education. Requested Scope: State agency for the approval of public postsecondary vocational education offered at institutions in the State of Oklahoma that are not under the jurisdiction of the Oklahoma State Regents for Higher Education, including programs offered via distance education.)

Compliance Reports

Accrediting Agencies

1. American Optometric Education, Accreditation Council on Optometric Education. (Current Scope: The accreditation in the United States of professional optometric degree programs, optometric technician [associate degree] programs, and optometric residency programs, and for the preaccreditation categories of “Preliminary Approval” for professional optometric degree programs and “Candidacy Pending” for optometric residency programs in Department of Veterans Affairs facilities).

2. Western Association of Schools and Colleges, Accrediting Commission for Community and Junior Colleges. (Current Scope: The accreditation and preaccreditation [“Candidate for Accreditation”] of two-year, associate degree-granting institutions located in California, Hawaii, the United States territories of Guam and American Samoa, the Republic of Palau, the Federated States of Micronesia, the Commonwealth of the Northern Mariana Islands, and the Republic of the Marshall Islands, including the accreditation of such programs offered via distance education at these colleges].

Informational Report

Accrediting Agency

1. The Higher Learning Commission of the North Central Association of Colleges and Schools. (Current Scope: The accreditation and preaccreditation [“Candidate for Accreditation”] of degree-granting institutions of higher education in Arizona, Arkansas, Colorado, Illinois, Indiana, Iowa, Kansas, Michigan, Minnesota, Missouri, Nebraska, New Mexico, North Dakota, Ohio, Oklahoma, South Dakota, West Virginia, Wisconsin, Wyoming, including tribal institutions, and the accreditation of programs offered via distance education with these institutions. This recognition extends to the Institutional Actions Committee, jointly with the Board of Trustees of the Commission, for decisions on cases for continued accreditation or reaffirmation and continued candidacy. This recognition also extends to the Review Committee of the Accreditation Review Council, jointly with the Board of Trustees of the Commission, for decisions on cases for continued accreditation or candidacy and for initial candidacy or initial accreditation when there is a consensus decision by the Review Committee.)

Instructions for Making a Third-Party Oral Comment at the December 2011 NACIQI Meeting: There are two methods the public may use to make a third-party oral comment of three to five minutes concerning one of the agencies scheduled for review during the December 14-16, 2011 meeting.

Method One: Submit a written request by email in advance of the meeting to make a third-party oral presentation. All individuals or groups submitting an advance request in accordance with this notice will be afforded an opportunity to speak for a minimum of three minutes each. Each request must concern the recognition of a single agency scheduled in this notice for review, must be received no later than thirty days after the date of publication of this notice, and must be sent to aslrecordsmanager@ed.gov with the subject line “Oral Comments re: (agency name).” Your request (no more than one page maximum) must include:

1. The name, title, affiliation, mailing address, email address, telephone and facsimile numbers, and Web site (if any) of the person/group requesting to speak, and

2. A brief summary of the principal points to be made during the oral presentation.

Only requests made in accordance with these instructions will result in an opportunity to speak under this method. Individuals making oral presentations may not distribute written materials at the meeting. Please do not send material directly to the NACIQI members.

Method Two: Register on December 14, 15, or 16, 2011, for an oral presentation opportunity during the NACIQI's deliberations concerning a particular agency scheduled for review. The requester should provide his or her name, title, affiliation, mailing address, email address, telephone and facsimile numbers, and Web site (if any). A total of up to fifteen minutes during each agency's review will be allotted for commenters who sign up the day of the meeting (in addition to those commenters who signed up in advance); and, if a person or group requests to make comments in advance, they cannot sign-up to make comments the day of the meeting. Individuals or groups that sign up on the day of the meeting will be selected on a first-come, first-served basis. If selected, each commenter may speak from three to five minutes, depending on the number of individuals or groups who signed up the day of the meeting. The Committee may engage the commenter in discussion afterwards.

Members of the public will be eligible for making third-party oral comments only in accordance with these instructions. The oral comments will become part of the official record and will be considered by the Department and the NACIQI in their deliberations. Individuals and groups making oral presentations may not distribute written materials at the meeting.

Oral comments about agencies seeking continued recognition or presenting a compliance report must relate to the Criteria for the Recognition of Accrediting Agencies, the Criteria and Procedures for Recognition of State Agencies for Nurse Education, or the Criteria and Procedures for Recognition of State Agencies for Approval of Public Postsecondary Vocational Education, which are available at http://www.ed.gov/admins/finaid/accred/index.html.

If the Committee is reviewing an agency's petition, comments must relate to whether the agency meets the Criteria for Recognition. If the Committee is reviewing an agency's compliance/interim report, comments must relate to the NACIQI's area of consideration, which will be whether the agency has demonstrated compliance with the specific criteria specified in the Department's request for the report. Third parties having concerns about agencies regarding matters outside the scope of the requested compliance report should report those concerns to Department staff.

Written Comments: This notice invites third-party oral testimony about the agencies scheduled for review, not written comment. Requests for written comments on agencies that are scheduled for review during the meeting were published in the Federal Register (76 FR 159) on August 17, 2011. The NACIQI will receive and consider only written comments that were submitted by the September 17, 2011 deadline specified in the above referenced Federal Register notice.

Access to Records of the Meeting: The Department will post the official report of the meeting on the NACIQI Web site shortly after the meeting. Pursuant to the FACA, the public may also inspect the materials at 1990 K Street NW., Washington, DC, by emailing the aslrecordsmanager@ed.gov, or by calling (202) 219-7067 to schedule an appointment.

Reasonable Accommodations: Individuals who will need accommodations for a disability in order to attend the December 14-16, 2011 meeting (i.e., interpreter services, assistive listening devices, and/or materials in alternative format) should contact department staff by telephone: (202) 219-7011; or, email: aslrecordsmanagement@ed.gov, no later than November 21, 2011. We will attempt to meet requests after this date but cannot guarantee the availability of the requested accommodation. The meeting site is accessible.

FOR FURTHER INFORMATION CONTACT: Contact Melissa Lewis, Executive Director, NACIQI, U.S. Department of Education, Room 8060, 1990 K Street, NW., Washington, DC 20006, telephone: (202) 219-7011; email: Melissa.Lewis@ed.gov. Individuals who use a telecommunications device for the deaf (TDD) may call the federal Information Relay Service at 1-(800) 877-8339 between 8 a.m. and 8 p.m., Eastern Standard Time, Monday through Friday.

NACIQI'S Statutory Authority and Functions: The NACIQI is established under Section 114 of the Higher Education Act (HEA) as amended, 20 U.S.C. 1011c. The NACIQI advises the Secretary of Education about:

• The establishment and enforcement of the Criteria for Recognition of accrediting agencies or associations under Subpart 2, Part H, Title IV, HEA, as amended.

• The recognition of specific accrediting agencies or associations, or a specific State approval agency.

• The preparation and publication of the list of nationally recognized accrediting agencies and associations.

• The eligibility and certification process for institutions of higher education under Title IV, HEA.

• The relationship between: (1) Accreditation of institutions of higher education and the certification and eligibility of such institutions, and (2) State licensing responsibilities with respect to such institutions.

• Any other advisory functions relating to accreditation and institutional eligibility that the Secretary may prescribe.

Electronic Access to this Document: The official version of this document is the document published in the Federal Register. Free Internet access to the official edition of the Federal Register and the Code of Federal Regulations is available via the Federal Digital System at: http://www.gpo.gov/fdsys. At this site you can view this document, as well as all other documents of this Department published in the Federal Register, in text or Adobe Portable Document Format (PDF). To use PDF, you must have Adobe Acrobat Reader, which is available free at the site.

You may also access documents of the Department published in the Federal Register by using the article search feature at: http://www.federalregister.gov. Specifically, through the advanced search feature at this site, you can limit your search to documents published by the Department.

Eduardo M. Ochoa,
Assistant Secretary for Postsecondary Education.

[FR Doc. 2011-28263 Filed 10-31-11; 8:45 am]

BILLING CODE 4000-01-P